DEPARTMENT OF HOUSING AND URBAN DEVELOPMENT

[Docket No. FR-7050-N-61]

30-Day Notice of Proposed Information Collection: Economic Development Initiative Community Project Funding Grants, OMB Control No.: 2506-0217

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: December 21, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. HUD welcomes and is prepared to receive calls from individuals who are deaf or hard of hearing, as well as individuals with speech and communication disabilities. To learn more about how to make an accessible telephone call, please visit https://www.fcc.gov/consumers/guides/telecommunications-relay-service-trs.

FOR FURTHER INFORMATION CONTACT: Anna P. Guido, Reports Management Officer, REE, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD has submitted to OMB a request for approval of the information collection described in Section A. The Federal Register notice that solicited public comment on the information collection for a period of 60 days was published on August 26, 2022 at 87 FR 52590.

A. Overview of Information Collection

Title of Information Collection: Economic Development Initiative Community Project Funding Grants.

OMB Approval Number: 2506-0217.

Type of Request: Revision of a currently approved collection.

Form Number: Application for Federal Assistance (SF-424); Assurances for Non-Construction Programs (SF-424B); Assurances for Construction Programs (SF-424D); Disclosure of Lobbying Activities (SF-LLL); Disclosure/Update Report (Form HUD-2880); Direct Deposit Sign-Up (SF-1199A); Federal Financial Report (SF-425); Tangible Personal Property Report (SF 428); Tangible Personal Property Report (The Final/Award Closeout form on Acquired Equipment (SF 428 B); Tangible Personal Property Report (Disposition Request) (SF 428 C); Real Property Status Report (SF-429); Real Property Status Report—(General Reporting) (SF-429 A); Real Property Status Report—(Request to Acquire, Improve, or Furnish) (SF-429 B); Real Property Status Report—(Disposition or Encumbrance Request) (SF-429 C); Application narrative; Detailed Budget Worksheet, (HUD) 424 CBW; eLOCCS Access Authorization Form (HUD 27054); Change of Address Request (HUD 27056); and Grant Reporting (DRGR).

Description of the need for the information and proposed use:

Information collection | Number of respondents | Frequency of response | Responses per annual | Burden hour per response | Annual burden hours | Hourly cost per response | Annual cost
Application for Federal Assistance (SF-424) | 0 | 0 | 0 | 0 | 0 | 0 | 0
Assurances for Non-Construction Programs (SF-424B) | 0 | 0 | 0 | 0 | 0 | 0 | 0
Assurances for Construction Programs (SF-424D) | 0 | 0 | 0 | 0 | 0 | 0 | 0
Disclosure of Lobbying Activities (SF-LLL) | 0 | 0 | 0 | 0 | 0 | 0 | 0
Disclosure/Update Report (Form HUD-2880) | 1,000 | 1 | 1,000 | 2 | 2,000 | $32.73 | $65,460.00
Direct Deposit Sign-Up (SF-1199A) | 0 | 0 | 0 | 0 | 0 | 0 | 0
Federal Financial Report (SF-425) | 0 | 0 | 0 | 0 | 0 | 0 | 0
Tangible Personal Property Report (SF 428) | 0 | 0 | 0 | 0 | 0 | 0 | 0
Tangible Personal Property Report (The Final/Award Closeout form on Acquired Equipment (SF 428 B) | 0 | 0 | 0 | 0 | 0 | 0 | 0
Tangible Personal Property Report (Disposition Request) (SF 428 C) | 0 | 0 | 0 | 0 | 0 | 0 | 0
Real Property Status Report (SF-429) | 0 | 0 | 0 | 0 | 0 | 0 | 0
Real Property Status Report—(General Reporting) (SF-429 A) | 0 | 0 | 0 | 0 | 0 | 0 | 0
Real Property Status Report—(Request to Acquire, Improve, or Furnish) (SF-429 B) | 0 | 0 | 0 | 0 | 0 | 0 | 0
Real Property Status Report—(Disposition or Encumbrance Request) (SF-429 C) | 0 | 0 | 0 | 0 | 0 | 0 | 0
Application narrative | 0 | 0 | 0 | 0 | 0 | 0 | 0
Detailed Budget Worksheet, (HUD) 424 CBW | 1,000 | 1 | 1,000 | 2 | 2,000 | 32.73 | 65,460
ELOCCS Access Authorization Form (HUD 27054) | 0 | 0 | 0 | 0 | 0 | 0 | 0
Change of Address Request (HUD 27056) | 1,000 | 1 | 1,000 | .5 | 500 | 32.73 | 16,365.00
Grant Reporting (DRGR) | 1,000 | 2 | 2,000 | 3 | 6,000 | 32.73 | 196,380.00
Total | 1,000 | 5 | 5,000 | 7.5 | 37,500 | 32.73 | 1,227,375.00

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. chapter 35.

Anna P. Guido,
Department Reports Management Officer, Office of the Chief Data Officer.

[FR Doc. 2022-25260 Filed 11-18-22; 8:45 am]

BILLING CODE 4210-67-P